DEPARTMENT OF ENERGY

Federal Energy Regulatory Commission

[Docket Nos. CP05-13-000, CP05-11-000, CP05-12-000, CP05-14-000]

Ingleside Energy Center, LLC; San Patricio Pipeline LLC; Notice of Applications

November 2, 2004.

Take notice that on October 25, 2004, Ingleside Energy Center LLC (Ingleside); 5 Greenway Plaza, Suite 1600, Houston, Texas 77046, filed in Docket No. CP05-13-000 an application pursuant to section 3(a) of the Natural Gas Act (NGA) seeking authorization to site, construct and operate a liquefied natural gas (LNG) terminal located near Ingleside, Texas. The LNG terminal will provide LNG tanker terminal services to third party shippers who would be importing LNG.

Also take notice that on October 25, 2004, San Patricio Pipeline LLC (San Patricio Pipeline) filed in Docket No. CP05-11-000 an application seeking a certificate of public convenience and necessity, pursuant to section 7(c) of the NGA, to construct and operate a 26.4-mile pipeline and related facilities to transport natural gas on an open access basis. Also, in Docket No. CP05-12-000, San Patricio Pipeline requests a blanket certificate under section 7(c) of the NGA and part 157, subpart F of the Commission's regulations to perform routine activities in connection with the future construction, operation and maintenance of the proposed pipeline. Finally, San Patricio Pipeline requests authorization in Docket No. CP05-14-000 to provide the natural gas transportation services on a firm and interruptible basis pursuant to section 7(c) of the NGA and part 284 of the Commission's regulations. Both Ingleside and San Patricio Pipeline are subsidiaries of Occidental Energy Ventures Corp.

On September 24, 2004, San Patricio Pipeline announced the commencement of an open season for the purpose of obtaining binding commitments for firm transportation capacity. San Patricio Pipeline states that the construction and operation of the pipeline will enable new competitively priced supplies of natural gas imported through the Ingleside LNG terminal to reach markets throughout the United States.

These applications are on file with the Commission and open to public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866)208-3676, or for TTY, contact (202) 502-8659. Any initial questions regarding these applications should be directed to Lawrence G. Acker, LeBoeuf, Lamb, Greene & MacRae, LLP, 1875 Connecticut Avenue, NW., Suite 1200, Washington, DC 20009-5728. Telephone: (202) 986-8000, Fax: (202) 986-8102.

On April 19, 2004 the Commission staff granted Ingleside's request to utilize the National Environmental Policy Act (NEPA) Pre-Filing Process and assigned Docket No. PF04-9-000 to staff activities involving Ingleside. The San Patricio Pipeline was also assessed in the NEPA pre-file process in Docket No. PF04-9-000. Now, as of the filing of Ingleside's and San Patricio Pipeline's applications on October 25, 2004, the NEPA Pre-Filing Process for those projects has ended. From this time forward, Ingleside's and San Patricio Pipeline's proceeding will be conducted in Docket Nos. CP05-13-000, et. al, as noted in the caption of this Notice.

There are two ways to become involved in the Commission's review of this project. First, any person wishing to obtain legal status by becoming a party to the proceedings for this project should, on or before the comment date listed below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of this filing and all subsequent filings made with the Commission and must mail a copy of all filing to the applicant and to every other party in the proceeding. Only parties to the proceeding can ask for court review of Commission orders in the proceeding.

However, other persons do not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to this project provide copies of their protests only to the party or parties directly involved in the protest.

Persons may also wish to comment further only on the environmental review of this project. Environmental commenters will be placed on the Commission's environmental mailing list, will receive copies of environmental documents issued by the Commission, and will be notified of meetings associated with the Commission's environmental review process. Those persons, organizations, and agencies who submitted comments during the NEPA Pre-Filing Process in Docket No. PF04-9-000 are already on the Commission staff's environmental mailing list for the proceeding in the above dockets and may file additional comments on or before the below listed comment date. Environmental commenters will not be required to serve copies of filed documents on all other parties. However, environmental commenters are also not parties to the proceeding and will not receive copies of all documents filed by other parties or non-environmental documents issued by the Commission. Further, they will not have the right to seek court review of any final order by Commission in this proceeding.

The Commission strongly encourages electronic filings of comments, protests, and interventions via the Internet in lieu of paper. See 18 CFR 385.2001(a)(1)(iii) and the instructions on the Commission's Web site (http://www.ferc.gov) under the “e-Filing” link.

Comment Date: November 23, 2004.

Magalie R. Salas,
Secretary.

[FR Doc. E4-3090 Filed 11-9-04; 8:45 am]

BILLING CODE 6717-01-P